DEPARTMENT OF ENERGY

Federal Energy Regulatory Commission

[Project No. 2071-013—Washington, Project No. 2111-018—Washington, Project No. 935-053—Washington, Project No. 2071-013—Washington]

Lewis River Projects: PacifiCorp and Cowlitz PUD; Notice of Intention To Hold Public Meetings To Discuss the Draft Environmental Impact Statement for the Lewis River Hydropower Projects

September 28, 2005.

On September 16, 2005, the Commission staff mailed the Lewis River Projects Draft Environmental Impact Statement (DEIS) to the Environmental Protection Agency, resource and land management agencies, and interested organizations and individuals.

Notice of the DEIS was published in the Federal Register on September 23, 2005, and comments are due November 23, 2005. The DEIS evaluates the environmental consequences of the construction, operation, and maintenance of the Lewis River Projects in Washington. The DEIS also evaluates the environmental effects of implementing the applicant's proposals, agency and NGO recommendations, staff's modifications, and the no-action alternative.

A public meeting is scheduled for Thursday, October 27, 2005, from 10 a.m. to 3 p.m. (PST) at the Oak Tree Restaurant, 1020 Atlantic Avenue, Woodland, WA 98674.

At this meeting, resource agency personnel and other interested persons will have the opportunity to provide oral and written comments and recommendations regarding the DEIS for the Commission's public record. These meetings will be recorded by an official stenographer.

For further information, please contact Ann-Ariel Vecchio at (202) 502-6351, or by e-mail at ann-ariel.vecchio@ferc.gov.

Magalie R. Salas,
Secretary.

[FR Doc. E5-5510 Filed 10-5-05; 8:45 am]

BILLING CODE 6717-01-P